DEPARTMENT OF ENERGY

Federal Energy Regulatory Commission

Sunshine Act Meeting Notice

June 10, 2010.

The following notice of meeting is published pursuant to section 3(a) of the government in the Sunshine Act (Pub. L. No. 94-409), 5 U.S.C. 552b:

Agency Holding Meeting: Federal Energy Regulatory Commission.

Date and Time: June 17, 2010, 10 a.m.

Place: Room 2C, 888 First Street, NE., Washington, DC 20426.

Status: Open.

Matters To Be Considered: Agenda.

Note: Items listed on the agenda may be deleted without further notice.

Contact Person for More Information: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

960th—Meeting
Item No. | Docket No. | Company
Administrative
A-1 | AD02-1-000 | Agency Administrative Matters.
A-2 | AD02-7-000 | Customer Matters, Reliability, Security and Market Operations.
A-3 | AD09-10-000 | National Action Plan on Demand Response.
Electric
E-1 | ER09-1048-000, ER06-615-059 | California Independent System Operator Corporation.
E-2 | ER09-1049-000 | Midwest Independent Transmission System Operator, Inc.
E-3 | ER09-1050-000, ER09-1192-000 | Southwest Power Pool, Inc.
E-4 | OMITTED. |
E-5 | ER09-1063-000, ER09-1063-001 | PJM Interconnection, L.L.C.
E-6 | ER09-1142-000 | New York Independent System Operator, Inc.
E-7 | ER10-1069-000 | Southwest Power Pool, Inc.
E-8 | OMITTED. |
E-9 | RM10-23-000 | Transmission Planning and Cost Allocation by Transmission Owning and Operating Public Utilities.
E-10 | RM09-25-000 | System Personnel Training Reliability Standards.
E-11 | OMITTED. |
E-12 | ER10-1117-000 | Evergreen Wind Power V, LLC and Stetson Wind II, LLC.
E-13 | EL10-48-000, EC10-52-000 | Ameren Corporation.
|  | Illinois Power Company.
|  | Central Illinois Light Company.
|  | Central Illinois Public Service Company.
|  | Ameren Energy Resources Company, LLC.
|  | Ameren Energy Resources Generating Company.
E-14 | ER09-1717-001 | Duke Energy Carolinas, LLC.
E-15 | ER04-449-021 | New York Independent System Operator, Inc. and New York Transmission Owners.
E-16 | OMITTED. |
E-17 | ER09-1051-000 | ISO New England Inc. and New England Power Pool.
E-18 | EL10-52-000 | Central Transmission, LLC v. PJM Interconnection, L.L.C.
E-19 | OMITTED. |
E-20 | EL09-72-001 | Pacific Gas and Electric Company.
E-21 | EL09-12-000, EL09-12-001 | United States Department of Energy—Bonneville Power Administration.
E-22 | RM10-24-000 | Regional Transmission Organization/Independent System Operator Responsiveness to Customers and Other Stakeholders: Best Practices.
Miscellaneous
M-1 | RM07-9-003 | Revisions to Forms, Statements, and Reporting Requirements for Natural Gas Pipelines.
Gas
G-1 | RM07-10-002 | Transparency Provisions of Section 23 of the Natural Gas Act.
G-2 | RP09-1086-001 | Texican N. La. Transport, LLC v. Southern Natural Gas Company.
Hydro
H-1 | P-2283-072 | FPL Energy Maine Hydro LLC.
H-2 | P-2355-013 | Exelon Corporation Company, LLC.
H-3 | P-2496-219 | Eugene Water and Electric Board.
H-4 | P-382-085 | Southern California Edison Company.
Certificates
C-1 | OMITTED. |
C-2 | CP08-6-004 | Midcontinent Express Pipeline, LLC.

Kimberly D. Bose,
Secretary.

A free Webcast of this event is available through http://www.ferc.gov. Anyone with Internet access who desires to view this event can do so by navigating to http://www.ferc.gov's Calendar of Events and locating this event in the Calendar. The event will contain a link to its Webcast. The Capitol Connection provides technical support for the free Webcasts. It also offers access to this event via television in the DC area and via phone bridge for a fee. If you have any questions, visit http://www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2010-14448 Filed 6-11-10; 11:15 am]

BILLING CODE 6717-01-P